DEPARTMENT OF TRANSPORTATION

Federal Aviation Administration

14 CFR Part 39

[Docket No. FAA-2013-0706; Directorate Identifier 2013-NM-067-AD; Amendment 39-17708; AD 2013-25-12]

RIN 2120-AA64

Airworthiness Directives; The Boeing Company Airplanes

AGENCY: Federal Aviation Administration (FAA), DOT.

ACTION: Final rule.

SUMMARY: We are adopting a new airworthiness directive (AD) for certain The Boeing Company Model DC-9-10, DC-9-30, and DC-9-40 series airplanes. This AD was prompted by an evaluation by the design approval holder (DAH) indicating that the aft pressure bulkhead web area is subject to widespread fatigue damage (WFD). This AD requires modifying the aft pressure bulkhead. The modification includes inspecting for cracks around the rivet holes, and repair of any cracking. We are issuing this AD to prevent fatigue cracking of the aft pressure bulkhead, which could result in reduced structural integrity of the airplane.

DATES: This AD is effective January 31, 2014.

The Director of the Federal Register approved the incorporation by reference of a certain publication listed in this AD as of January 31, 2014.

ADDRESSES: For service information identified in this AD, contact Boeing Commercial Airplanes, Attention: Data & Services Management, 3855 Lakewood Boulevard, MC D800-0019, Long Beach, CA 90846-0001; telephone 206-544-5000, extension 2; fax 206-766-5683; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0706; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Eric Schrieber, Aerospace Engineer, Airframe Branch, ANM-120L, FAA, Los Angeles Aircraft Certification Office, 3960 Paramount Boulevard, Lakewood, CA 90712-4137; phone: (562) 627-5348; fax: (562) 627-5210; email: eric.schrieber@faa.gov.

SUPPLEMENTARY INFORMATION:

Discussion

We issued a notice of proposed rulemaking (NPRM) to amend 14 CFR part 39 by adding an AD that would apply to the specified products. The NPRM published in the Federal Register on September 11, 2013 (78 FR 55662). The NPRM proposed to require modifying the aft pressure bulkhead. The modification includes inspecting for cracks around the rivet holes, and repair of any cracking.

Comments

We gave the public the opportunity to participate in developing this AD. We received no comments on the NPRM (78 FR 55662, September 11, 2013) or on the determination of the cost to the public.

Change Made to this AD

We have revised the service information citations throughout this final rule to correctly identify the manufacturer name specified on the service information.

Conclusion

We reviewed the relevant data and determined that air safety and the public interest require adopting this AD with the change described previously and minor editorial changes. We have determined that these minor changes:

• Are consistent with the intent that was proposed in the NPRM (78 FR 55662, September 11, 2013) for correcting the unsafe condition; and

• Do not add any additional burden upon the public than was already proposed in the NPRM (78 FR 55662, September 11, 2013).

We also determined that these changes will not increase the economic burden on any operator or increase the scope of this AD.

Costs of Compliance

We estimate that this AD affects 6 airplanes of U.S. registry.

We estimate the following costs to comply with this AD:

Estimated costs
Action | Labor cost | Parts cost | Cost per product | Cost on U.S. operators
Modification (includes inspection) | 542 work-hours × $85 per hour = $46,070 | $4,680 | $50,750 | $304,500

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-25-12 The Boeing Company: Amendment 39-17708; Docket No. FAA-2013-0706; Directorate Identifier 2013-NM-067-AD.

(a) Effective Date

This AD is effective January 31, 2014.

(b) Affected ADs

None.

(c) Applicability

This AD applies to The Boeing Company Model DC-9-11, DC-9-12, DC-9-13, DC-9-14, DC-9-15, and DC-9-15F airplanes, DC-9-31, DC-9-32, DC-9-32 (VC-9C), DC-9-32F, DC-9-33F, DC-9-34, DC-9-34F, and DC-9-32F (C-9A, C-9B) airplanes, and DC-9-41 airplanes, certificated in any category, identified in McDonnell Douglas DC-9 Alert Service Bulletin A53-144, Revision 2, dated February 23, 1984.

(d) Subject

Joint Aircraft System Component (JASC) Code 5312, Fuselage Main Bulkhead.

(e) Unsafe Condition

This AD was prompted by an evaluation by the design approval holder (DAH) indicating that the fuselage bulkhead web area is subject to widespread fatigue damage (WFD). We are issuing this AD to prevent fatigue cracking of the bulkhead, which could result in reduced structural integrity of the airplane.

(f) Compliance

Comply with this AD within the compliance times specified, unless already done.

(g) Modification

For airplanes on which the modification (AD4 rivets replaced with AD5 rivets) required by AD 85-01-02 R1, Amendment 39-5241 (51 FR 6101, dated February 20, 1986), has not been done: Before the accumulation of 72,000 total flight cycles, or within 18 months after the effective date of this AD, whichever occurs later, modify the aft pressure bulkhead by removing all affected AD4 rivets and doing either a fluorescent penetrant or eddy current inspection around the rivet holes for cracks, repairing any cracking, and installing five-leaf doublers with AD5 rivets, in accordance with the Accomplishment Instructions of McDonnell Douglas DC-9 Alert Service Bulletin A53-144, Revision 2, dated February 23, 1984; except as required by paragraph (h) of this AD.

Note 1 to paragraph (g) of this AD: Information on additional procedures for the modification can be found in Notes 4, 5, and 6, as applicable, of paragraph 1.D., “Compliance” of McDonnell Douglas DC-9 Alert Service Bulletin A53-144, Revision 2, dated February 23, 1984.

(h) Exception to Service Information

If any crack is found during any inspection required by this AD, and McDonnell Douglas DC-9 Alert Service Bulletin A53-144, Revision 2, dated February 23, 1984, specifies to contact the manufacturer for appropriate action: Before further flight, repair using a method approved in accordance with the procedures specified in paragraph (j) of this AD.

(i) No Reporting Required

Sheet 1 of Service Sketch 3109, and Sheet 7 of Service Sketch 3110B of McDonnell Douglas DC-9 Alert Service Bulletin A53-144, Revision 2, dated February 23, 1984; specify reporting the details of any cracks found; however, this AD does not require reporting.

(j) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the Los Angeles ACO, send it to the attention of the person identified in paragraph (k) of this AD.

(2) Before using any approved AMOC, notify your appropriate principal inspector, or lacking a principal inspector, the manager of the local flight standards district office/certificate holding district office.

(3) An AMOC that provides an acceptable level of safety may be used for any repair required by this AD if it is approved by Structures Authorized Representative for the Boeing Commercial Airplanes Delegation Option Authorization Organization who has been authorized by the Manager, Los Angeles ACO, to make those findings. For a repair method to be approved, the repair must meet the certification basis of the airplane, and 14 CFR 25.571, Amendment 45, and the approval must specifically refer to this AD.

(k) Related Information

For more information about this AD, contact Eric Schrieber, Aerospace Engineer, Airframe Branch, ANM-120L, FAA, Los Angeles Aircraft Certification Office, 3960 Paramount Boulevard, Lakewood, CA 90712-4137; phone: (562) 627-5348; fax: (562) 627-5210; email: eric.schrieber@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) McDonnell Douglas DC-9 Alert Service Bulletin A53-144, Revision 2, dated February 23, 1984.

(ii) Reserved.

(3) For service information identified in this AD, contact Boeing Commercial Airplanes, Attention: Data & Services Management, 3855 Lakewood Boulevard, MC D800-0019, Long Beach, CA 90846-0001; telephone 206-544-5000, extension 2; fax 206-766-5683; Internet https://www.myboeingfleet.com.

(4) You may view this service information at the FAA, Transport Airplane Directorate, 1601 Lind Avenue SW., Renton, Washington. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 10, 2013.
John P. Piccola,
Acting Manager, Transport Airplane Directorate, Aircraft Certification Service.

[FR Doc. 2013-30779 Filed 12-26-13; 8:45 am]

BILLING CODE 4910-13-P